RAILROAD RETIREMENT BOARD

Agency Forms Submitted for OMB Review, Request for Comments

SUMMARY: In accordance with the Paperwork Reduction Act of 1995 (44 U.S.C. Chapter 35), the Railroad Retirement Board (RRB) is forwarding an Information Collection Request (ICR) to the Office of Information and Regulatory Affairs (OIRA), Office of Management and Budget (OMB) to request an extension to a currently approved collection of information: 3220-0079, Certification Regarding Rights to Unemployment Benefits consisting of Form UI-45, Claimant's Statement—Voluntary leaving of Work. Our ICR describes the information we seek to collect from the public. Review and approval by OIRA ensures that we impose appropriate paperwork burdens.

The RRB invites comments on the proposed collection of information to determine (1) the practical utility of the collection; (2) the accuracy of the estimated burden of the collection; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

Under Section 4 of the Railroad Unemployment Insurance Act (RUIA), an employee who leaves work voluntarily is disqualified for unemployment benefits unless the employee left work for good cause and is not qualified for unemployment benefits under any other law. RRB Form UI-45, Claimant's Statement—Voluntary Leaving of Work, is used by the RRB to obtain the claimant's statement when it is indicated by the claimant, the claimant's employer, or another source that the claimant has voluntarily left work. Completion of Form UI-45 is required to obtain or retain benefits. One response is received from each respondent. The RRB proposes a very minor non-burden impacting editorial change to Form UI-45.

Previous Requests for Comments: The RRB has already published the initial 60-day notice (72 FR 9363 on March 1, 2007) required by 44 U.S.C. 3506(c)(2). That request elicited no comments.

Information Collection Request (ICR)

Title: Certification Regarding Rights to Unemployment Benefits.

OMB Control Number: 3220-0079.

Form(s) submitted: UI-45.

Type of request: Extension of a currently approved collection.

Affected public: Individuals or households, Business or-other-for profit.

Abstract: In administering the disqualification for the voluntary leaving of work provision of Section 4 of the Railroad Unemployment Insurance Act, the Railroad Retirement Board investigates an unemployment claim that indicates that the claimant left voluntarily. The certification obtains information needed to determine if the leaving was for good cause.

Changes Proposed: The RRB proposes a minor non-burden impacting editorial change to Form UI-45.

The burden estimate for the ICR is as follows:

Estimated Completion Time for Form UI-45: 5-15 minutes.

Estimated annual number of respondents: 1,950.

Total annual responses: 2,900.

Total annual reporting hours: 487.

Additional Information or Comments: Copies of the forms and supporting documents can be obtained from Charles Mierzwa, the agency clearance officer (312-751-3363) or Charles.Mierzwa@rrb.gov.

Comments regarding the information collection should be sent to Ronald J. Hodapp, Railroad Retirement Board, 844 North Rush Street, Chicago, Illinois 60611-2092 or Ronald.Hodapp@RRB.GOV, and to the Office of Management Budget at ATTN: Desk Officer for RRB, Fax : (202) 395-6974 or via E-mail to OIRA_Submission@omb.eop.gov.

Charles Mierzwa,
Clearance Officer.

[FR Doc. E7-16843 Filed 8-23-07; 8:45 am]

BILLING CODE 7905-01-P